FEDERAL RESERVE SYSTEM

Formations of, Acquisitions by, and Mergers of Bank Holding Companies; Correction

This notice corrects a notice (FR Doc. 2011-25986) published on pages 62408 and 62409 of the issue for Friday, October 7, 2011.

Under the Federal Reserve Bank of St. Louis heading, the entry for MutualFirst Financial, Inc., Muncie, Indiana, is revised to read as follows:

A. Federal Reserve Bank of Chicago (Colette A. Fried, Assistant Vice President) 230 South LaSalle Street, Chicago, Illinois 60690-1414:

1. MutualFirst Financial, Inc., Muncie, Indiana; to become a bank holding company by acquiring 100 percent of the voting shares of MutualBank, Muncie, Indiana.

Comments on this application must be received by November 4, 2011.

Board of Governors of the Federal Reserve System, October 7, 2011.
Robert deV. Frierson,
Deputy Secretary of the Board.

[FR Doc. 2011-26457 Filed 10-12-11; 8:45 am]

BILLING CODE 6210-01-P